DEPARTMENT OF LABOR

Employment and Training Administration

[NAFTA-3983]

Four Seasons of Georgetown, Georgetown, SC; Notice of Termination of Investigation

Pursuant to Title V of the North American Free Trade Agreement Implementation Act (Public Law 103-182) concerning transitional adjustment assistance, hereinafter called NAFTA-TAA and in accordance with section 250(a), Subchapter D, Chapter 2, Title II, of the Trade Act of 1974, as amended (19 USC 2331), an investigation was initiated on June 22, 2000, in response to a petition filed on the same date by a company official, on behalf of workers at Four Seasons of Georgetown, Georgetown, South Carolina.

The petitioner has requested that the petition be withdrawn. Consequently, further investigation in this case would serve no purpose, and the investigation has been terminated.

Signed at Washington, DC, this 5th day of October, 2000.
Linda G. Poole,
Certifying Officer, Division of Trade Adjustment Assistance.

[FR Doc. 00-26728 Filed 10-17-00; 8:45 am]

BILLING CODE 4510-30-M